DEPARTMENT OF HOMELAND SECURITY

Coast Guard

[USCG-2007-27771]

Merchant Marine Personnel Advisory Committee

AGENCY: Coast Guard, DHS.

ACTION: Notice of Open Teleconference Meeting.

SUMMARY: This notice announces a teleconference of the Merchant Marine Personnel Advisory Committee (MERPAC). The purpose of the teleconference is for MERPAC to discuss and prepare recommendations for the Coast Guard concerning its supplemental notice of proposed rulemaking (SNPRM) on the consolidation of merchant mariner qualification credentials [USCG-2006-24371]. MERPAC provides advice and makes recommendations to the Coast Guard on matters related to the training, qualification, licensing, certification, and fitness of seamen serving in the U.S. merchant marine.

DATES: The teleconference call will take place on Monday, April 30th, from 12 p.m. until 2 p.m., EST.

ADDRESSES: Members of the public may participate by dialing 1-866-456-0016 (Persons using international connections should dial 1-720-348-6543). You will then be prompted to dial your conference number, which is *4632491*. Please ensure that you enter the * marks. Public participation is welcomed; however, the number of teleconference lines is limited, and lines are available first-come, first-served. Members of the public may also participate by coming to Room 6303, U.S. Coast Guard Headquarters, 2100 Second Street, SW., Washington, DC 20593-0001. We request that members of the public who plan to attend this meeting notify Mr. Mark Gould at 202-372-1409 so that he may notify building security officials. You may also gain access to this docket at http://dms.dot.gov/search/searchFormSimple.cfm.

FOR FURTHER INFORMATION CONTACT: Captain Lorne Thomas, Executive Director of MERPAC, or Mr. Gould, Assistant to the Executive Director, telephone 202-372-1409, fax 202-372-1426.

SUPPLEMENTARY INFORMATION: The Federal Advisory Committee Act requires that public notice of these meetings be announced in the Federal Register [5 U.S.C. App. 2]. MERPAC is chartered under that Act. It provides advice and makes recommendations to the Assistant Commandant for Operations, on issues concerning merchant marine personnel such as implementation of the International Convention on Standards of Training, Certification and Watchkeeping for Seafarers (STCW), 1978, and developing standards of competency for ship's security officers.

Tentative Agenda:

Monday, April 30th, 2007.

12 p.m.-12:05 p.m. Welcome and Opening Remarks—MERPAC Chairman Captain Andrew McGovern.

12:05 p.m.-12:45 p.m. Open discussion on the docket of the Coast Guard's SNPRM concerning the consolidation of merchant mariner qualification credentials [USCG-2006-24371].

12:45 p.m.-1 p.m. Public comment period.

1 p.m.-2 p.m. MERPAC vote on recommendations for the Coast Guard.

2 p.m. Adjourn.

This tentative agenda is subject to change and the meeting may adjourn early if all committee business has been completed.

Public Participation

The Chairman of MERPAC is empowered to conduct the teleconference in a way that will, in his judgment, facilitate the orderly conduct of business. During its teleconference, the committee welcomes public comment. The committee will make every effort to hear the views of all interested parties, including the public. Written comments may be submitted to CAPT Lorne Thomas, Executive Director, MERPAC, Commandant (CG-3PSO), 2100 Second Street, SW., Washington DC 20593-0001.

Information on Services for Individuals With Disabilities

For information on facilities or services for individuals with disabilities or to request special assistance at the meeting, contact Mr. Gould as soon as possible.

Dated: March 30, 2007.
J. G. Lantz,
Director of National and International Standards, Assistant Commandant for Prevention.

[FR Doc. E7-6294 Filed 4-4-07; 8:45 am]

BILLING CODE 4910-15-P